DEPARTMENT OF HOMELAND SECURITY

Transportation Security Administration

[Docket No. TSA-2006-26514]

Intent To Request Renewal From OMB of One Current Public Collection of Information: Rail Transportation Security

AGENCY: Transportation Security Administration, DHS.

ACTION: 60-Day Notice.

SUMMARY: The Transportation Security Administration (TSA) invites public comment on one currently approved Information Collection Request (ICR), Office of Management and Budget (OMB) control number 1652-0051, abstracted below that we will submit to OMB for renewal in compliance with the Paperwork Reduction Act (PRA). The ICR describes the nature of the information collection and its expected burden. The collection involves the submission of contact information of Rail Security Coordinators and alternate Rail Security Coordinators from freight railroad carriers; shippers and receivers of certain hazardous materials; passenger railroad carriers, including each carrier operating light rail or heavy rail transit service on track that is part of the general railroad system of transportation and rail transit systems. Also, these persons are required to report significant security concerns, including security incidents, suspicious activity, and any threat information. In addition, freight railroad carriers and the affected shippers and receivers of hazardous materials are required to document the transfer of custody of certain hazardous materials.

DATES: Send your comments by March 13, 2012.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0051; Rail Transportation Security Rule, 49 CFR part 1580. TSA collects this information under 49 CFR part 1580 and cleared under OMB control number 1652-0051. The information is collected and used by TSA and the Department of Homeland Security (DHS) to enhance the security of the Nation's rail systems. The Rail Transportation Security Rule requires freight railroad carriers, certain rail hazardous materials shipper and receiver facilities, passenger railroad carriers, and rail mass transit systems to designate and submit contact information for a Rail Security Coordinator (RSC) and at least one alternate RSC to TSA.

This collection requires, in accordance with 49 CFR 1580.103, freight railroad carriers, shippers, and receivers in a High Threat Urban Area (HTUA) that handle certain categories and quantities of hazardous materials set forth in 49 CFR 1580.100(b), known as “rail security-sensitive materials,” to provide location and shipping information on rail cars under their physical custody and control to TSA upon request. Rail security-sensitive materials are defined as explosive materials, materials poisonous by inhalation, and radioactive materials.

This collection also requires freight railroad carriers, certain rail hazardous materials shipper and receiver facilities, passenger railroad carriers, and rail mass transit systems to report to TSA significant security concerns, which include security incidents, suspicious activities, and threat information.

TSA requires a secure chain of physical custody for rail cars containing rail security-sensitive materials. This collection also requires freight railroad carriers and certain hazardous materials shippers, and receivers of rail security-sensitive materials to document the transfer of custody of certain rail cars in writing or electronically and to retain these records for a minimum of 60 days. Specifically, 49 CFR 1580.107 requires documentation of the secure exchange of custody of rail cars containing rail security-sensitive materials between: A rail hazardous materials shipper and a freight railroad carrier; two separate freight railroad carriers, when the transfer of custody occurs within or HTUA or outside of an HTUA but the rail car may subsequently enter an HTUA; and a freight railroad carrier and a rail hazardous materials receiver located within an HTUA. The documentation must uniquely identify that the rail car was attended during the transfer of custody, including car initial and number; identification of individuals who attended the transfer (names or uniquely identifying employee number); location of transfer; and date and time the transfer was completed. The total burden for this collection is approximately 54,023 hours.

Issued in Arlington, Virginia, on January 9, 2012.
Joanna Johnson,
TSA Paperwork Reduction Act Officer, Office of Information Technology.

[FR Doc. 2012-601 Filed 1-12-12; 8:45 am]

BILLING CODE 9110-05-P